DEPARTMENT OF THE INTERIOR

Fish and Wildlife Service

Notice of Availability of the Draft Recovery Plan for the Chiricahua Leopard Frog

AGENCY: Fish and Wildlife Service, Interior.

ACTION: Notice of document availability.

SUMMARY: The U.S. Fish and Wildlife Service (Service) announces the availability of the Draft Recovery Plan for the Chiricahua Leopard Frog (Draft Recovery Plan) for public review. The species occurs in montane and river valley cienegas, springs, pools, cattle tanks, reservoirs, streams, and rivers in central and southeastern Arizona, west-central and southwestern New Mexico, and the sky islands and Sierra Madre Occidental of northeastern Sonora and western Chihuahua, Mexico, at elevations of approximately 3,000-9,000 feet. The Draft Recovery Plan recommends actions to lessen and alleviate threats to the species, and presents objective and measurable delisting criteria. The Service solicits review and comment from the public on this Draft Recovery Plan.

DATES: The comment period for this Draft Recovery Plan closes June 12, 2006. Comments on the Draft Recovery Plan must be received by the closing date to assure consideration.

ADDRESSES: Persons wishing to review the Draft Recovery Plan can obtain a copy from the U.S. Fish and Wildlife Service, Arizona Ecological Services Field Office, 2321 W. Royal Palm Road, Suite 103, Phoenix, Arizona 85021. The Draft Recovery Plan may also be obtained from the Internet at http://www.fws.gov/endangered (type “Chiricahua leopard frog” in the Species search field). Comments and materials concerning this Draft Recovery Plan may be mailed to “Field Supervisor” at the address above.

FOR FURTHER INFORMATION CONTACT: Jim Rorabaugh, Arizona Ecological Services Field Office, at the above address; telephone (602) 242-0210, facsimile (602) 242-2513.

SUPPLEMENTARY INFORMATION:

Background

The Chiricahua leopard frog (Rana chiricahuensis) was listed as threatened on June 13, 2002, under authority of the Endangered Species Act of 1973, as amended (67 FR 40790). The range of the Chiricahua leopard frog (Rana chiricahuensis) is divided into two parts, including—(1) A southern group of populations (the majority of the species' range) located in mountains and valleys south of the Gila River in southeastern Arizona, extreme southwestern New Mexico, and Mexico; and (2) northern montane populations in west central New Mexico and along the Mogollon Rim in central and eastern Arizona. The distribution and status of the species in Mexico is not well understood. The threats facing the survival and recovery of this species include predation by non-native fish, amphibians, and crayfish; the fungal disease chytridiomycosis; climatic extremes (e.g., drought, floods); degradation and loss of habitat as a result of water diversions, groundwater pumping, catastrophic fire, mining, and some livestock management; disruption of metapopulation dynamics; increased chance of extinction resulting from small populations; and possibly environmental contamination.

The delisting criteria proposed in the Draft Plan recommend that the Chiricahua leopard frog should be considered for delisting when: (1) At least two metapopulations located in different drainages plus at least one isolated and robust population in each of eight recovery units exhibit long-term persistence and stability; (2) aquatic breeding habitats are protected; (3) additional habitat needed for population connectivity, recolonization, and dispersal is protected and managed; and (4) threats and causes of decline have been reduced or eliminated, and commitments of long-term management are in place in each recovery unit. High-priority recovery tasks to lessen and alleviate these threats include actions to protect remaining populations and habitat; restore unoccupied habitats and create new habitat; establish new populations and augment existing populations; monitor; and develop conservation efforts on private, public, and tribal land, and in Mexico.

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.), requires the development of recovery plans for listed species, unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

The Chiricahua Leopard Frog Draft Recovery Plan is being submitted for review to all interested parties, including independent peer review. After consideration of comments received during the review period, the recovery plan will be submitted for final approval.

Public Comments Solicited

The Service solicits written comments on the recovery plan described. All comments received by the date specified above will be considered prior to approval of the recovery plan.

Authority

The authority for this action is section 4(f) of the Endangered Species Act, 16 U.S.C. 1533(f).

Dated: March 15, 2006.
Benjamin N. Tuggle,
Acting Regional Director, Southwest Region, Fish and Wildlife Service.

[FR Doc. E6-5354 Filed 4-11-06; 8:45 am]

BILLING CODE 4310-55-P